NUCLEAR REGULATORY COMMISSION

Biweekly Notice; Correction

The July 9, 2002, Federal Register contained a “Biweekly Notice; Notice of Consideration of Issuance of Amendments to Facility Operating Licenses, Proposed No Significant Hazards Consideration Determination, and Opportunity for a Hearing.” This notice corrects the notice published on July 9, 2002, (67 FR 45560). The last paragraph on page 45560 reads as follows: “By July 25, 2002, the licensee may file a request for a hearing with * * *”. It should read, “By August 8, 2002, the licensee may file a request for a hearing with * * *” to correct the hearing date to 30 days.

Dated at Rockville, Maryland, this 17th day of July 2002.
For the Nuclear Regulatory Commission.
John A. Zwolinski,
Director, Division of Licensing Project Management, Office of Nuclear Reactor Regulation.

[FR Doc. 02-18522 Filed 7-22-02; 8:45 am]

BILLING CODE 7590-01-P